FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, D.C. 20573.

Non-Vessel Operating Common Carrier Ocean Transportation Intermediary Applicants:

LRI Express, Inc., 343 N. Wood Dale Road, Suite 201, Wood Dale, IL 60191; Officers: Frederick G. Frantz, Jr., President, Paul S. Jarzombek, Secretary (Qualifying Individual)

Autico International L.L.C., 1139 East Jersey Street, Suite 513, Elizabeth, NJ 07201; Officer: Jochen Auffhammer, Member, Bernard A. Russell, Vice President (Qualifying Individual)

Global Network Financial Services, Inc., d/b/a Global Network, 1237 NW 93 Court, Miami, FL 33178; Officers: Miguel Camacho, President, Marianella Camacho, Vice President (Qualifying Individual)

Non-Vessel Operating Common Carrier and Ocean Freight Forwarder Transportation Intermediary Applicants:

South Beach Maritime Company, 8626 NW 55 Place, Coral Springs, FL 33067; Officer: Pierre Larenas, President (Qualifying Individual)

Protrans International, Inc., 117 West Main Street, Plainfield, IN 46168; Officers: Craig G. Roeder, President, Marino J. Diaz, Director of Sales (Qualifying Individual)

Seaspace International Forwarders USA Inc., 328 Littlefield Avenue, South San Francisco, CA 94080; Officers: Mike Smith, President, Kevin Beehn, Vice President (Qualifying Individual)

Dated: September 22, 2000.
Bryant L. VanBrakle,
Secretary.

[FR Doc. 00-24810 Filed 9-26-00; 8:45 am]

BILLING CODE 6730-01-P